DEPARTMENT OF THE TREASURY

Office of Thrift Supervision

Privacy Act of 1974, as Amended; System of Records

AGENCY: Office of Thrift Supervision, Treasury.

ACTION: Notice of systems of records.

SUMMARY: In accordance with the requirements of the Privacy Act of 1974, as amended, 5 U.S.C. 552a, the Office of Thrift Supervision (OTS), Treasury, is publishing its inventory of Privacy Act systems of records.

SUPPLEMENTARY INFORMATION: Pursuant to the Privacy Act of 1974 (5 U.S.C. 552a) and the Office of Management and Budget (OMB) Circular No. A-130, the OTS has completed a review of its Privacy Act systems of records notices to identify minor changes that will more accurately describe these records. This publication also incorporates the alterations to six OTS systems of records published on April 18, 2007, at 72 FR 19580.

Other changes throughout the document are editorial in nature and consist principally of changes to system locations (Appendix A) and system manager addresses and or titles in several systems of records. In addition, OTS no longer retrieves records contained in OTS .008—Employee Training Database by social security number. The systems of records notices were last published in their entirety on July 15, 2005, at 70 FR 41085.

On May 22, 2007, the Office of Management and Budget (OMB) issued Memorandum M-07-16 entitled “Safeguarding Against and Responding to the Breach of Personally Identifiable Information.” It required agencies to publish the routine use recommended by the President's Identity Theft Task Force. As part of that effort, the Department of the Treasury (Department) published the notice of the proposed routine use on October 3, 2007, at 72 FR 56434, and it was effective on November 13, 2007. The new routine use has been added to each OTS system of records below.

Department of the Treasury regulations require the Department to publish the existence and character of all systems of records every three years (31 CFR 1.23(a)(1)). OTS has leveraged this requirement to incorporate the review of its current holding of personally identifiable information required by M-07-16. With respect to its inventory of Privacy Act systems of records, OTS has determined that the information contained in its systems of records is accurate, timely, relevant, complete, and is the minimum necessary to maintain the proper performance of a documented agency function.

Systems Covered by this Notice

This notice covers all systems of records adopted by the Office of Thrift Supervision up to October 24, 2008. The systems notices are reprinted in their entirety following the Table of Contents.

Dated: June 23, 2009.
Elizabeth Cuffe,
Deputy Assistant Secretary for Privacy and Treasury Records.

Office of Thrift Supervision

Table of Contents

OTS .001—Confidential Individual Information System

OTS .002—Correspondence/Correspondence Tracking

OTS .003—Consumer Complaint

OTS .004—Criminal Referral Database

OTS .005—Employee Counseling Service

OTS .006—Employee Locator File

OTS .008—Employee Training Database

OTS .011—Positions/Budget

OTS .012—Payroll/Personnel Systems & Payroll Records

OTS Appendix A— Addresses of OTS Regional Offices

TREASURY/OTS .001

System name:

Confidential Individual Information System—Treasury/OTS.

System location:

Enforcement Division, Office of Thrift Supervision, 1700 G Street, NW., Washington, DC 20552. Computerized records of Suspicious Activity Reports (SAR), with status updates, are managed by FinCEN pursuant to a contractual agreement, and are stored at the Internal Revenue Service's Computing Center in Detroit, Michigan. Authorized personnel at the Federal financial regulatory agencies have on-line access to the computerized database managed by FinCEN through individual work stations that are linked to the database central computer.

Categories of individuals covered by the system:

Directors, officers, employees, agents, borrowers, and persons participating in the conduct of the affairs of entities regulated by OTS who have been involved in suspected criminal activity or suspicious financial transactions and referred to law enforcement officials; and other individuals who have been involved in irregularities, violations of law, or unsafe or unsound practices referenced in documents received by OTS in the exercising of its supervisory functions.

These records also contain information concerning individuals who have filed notices of intention to acquire control of a savings association, controlling persons of companies that have applications to acquire control of a savings association, and organizers of savings associations who have sought Federal Savings and Loan Insurance Corporation (FSLIC) or Saving Association Insurance Fund (SAIF) insurance of accounts or Federal charters.

Categories of records in the system:

Application information and inter-agency and intra-agency correspondence, memoranda, and reports. The SAR contains information identifying the financial institution involved, the suspected person, the type of suspicious activity involved, the amount of loss known, and any witnesses.

Authority for maintenance of the system:

12 U.S.C. 1464; 44 U.S.C. 3101.

Purpose(s):

The overall system serves as a central historical OTS repository for investigatory or enforcement information related to the responsibility of OTS to examine and supervise savings associations. It also serves to store information on applicants to acquire, control, or insure a savings association in connection with OTS's regulatory responsibilities.

The system maintained by FinCEN serves as the database for the cooperative storage, retrieval, analysis, and use of information relating to Suspicious Activity Reports made to or by the Federal financial regulatory agencies and FinCEN to various law enforcement agencies for possible criminal, civil or administrative proceedings based on known or suspected violations affecting or involving persons, financial institutions, or other entities under the supervision or jurisdiction of such Federal financial regulatory agencies.

Routine uses of records maintained in the system, including categories of users and the purposes of such uses:

Information in these records may be used to:

(1) Provide the Department of Justice with periodic reports on the number, amount, individual identity and other details concerning outstanding potential criminal violations of the law that have been referred to the Department;

(2) Provide the Federal financial regulatory agencies and FinCEN with information relevant to their operations;

(3) Provide information to third parties during the course of an investigation to the extent necessary to obtain information pertinent to the investigation;

(4) Provide information or records to any appropriate governmental agency or self-regulatory organization charged with the responsibility of administering law or investigating or prosecuting violations of law or charged with enforcing or implementing a statute, rule, regulation, order, policy, or license;

(5) Disclose, when considered appropriate, information to a bar association, or other professional organizations performing similar functions, for possible disciplinary action;

(6) Disclose information, when appropriate, to international and foreign governmental authorities in accordance with law and formal or informal international agreements;

(7) Provide information to any person with whom OTS contracts to reproduce, by typing, photocopying or other means, any record within this system for use by OTS and its staff in connection with their official duties, or to any person who is utilized by OTS to perform clerical or stenographic functions relating to the official business of OTS;

(8) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records are maintained on electronic media and in paper files.

Retrievability:

Computer output and file folders are retrievable by indexes of data fields, including name of financial institution and individual's name.

Safeguards:

Paper files are stored in lockable metal file cabinets with access limited to authorized individuals. Computer disks maintained at OTS are accessed only by authorized personnel. The database maintained by FinCEN complies with applicable security requirements of the Department of the Treasury. On-line access to the information in the database is limited to authorized individuals, and each individual has been issued a non-transferable identifier or password.

Retention and disposal:

Records are periodically updated to reflect changes and maintained as long as needed. Records are eligible to be destroyed after 15 years.

System manager(s) and addresses:

Deputy Chief Counsel, Enforcement, Office of Thrift Supervision, 1700 G Street, NW., Washington, DC 20552.

Notification procedure:

The system is exempt from notification and record-access requirements and requirements that an individual be permitted to contest its contents under 5 U.S.C. 552a(j)(2) and (k)(2) as relating to investigatory material compiled for law enforcement purposes.

Record access procedure:

See “Notification procedure” above.

Contesting record procedures:

See “Notification procedure” above.

Record source categories:

Suspicious activity reports and related historical information and updating forms compiled by financial institutions, OTS, and other Federal financial regulatory agencies for law enforcement purposes. OTS will also include information from applicants, inter-agency and intra-agency correspondence, memoranda, and reports.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f) and (g) of the Privacy Act pursuant to 5 U.S.C. 552a(j)(2) and (k)(2). See 31 CFR 1.36.

TREASURY/OTS .002

System name:

Correspondence/Correspondence Tracking.

System location:

Office of Thrift Supervision, 1700 G Street, NW., Washington, DC 20552.

Categories of individuals covered by the system:

White House and Executive Office of the President officials, Members of Congress, Treasury Department officials, the general public, and businesses.

Categories of records in the system:

Incoming correspondence addressed to the Director of OTS, letters from members of Congress transmitting letters from constituents or making inquiries, OTS responses, OTS memoranda and notes used to prepare responses, and information concerning internal office assignments, processing, and responses to the correspondence.

Purpose(s):

To maintain written records of correspondence addressed to the Director of OTS and congressional correspondence; to track the progress of the response; and to document the completion of the response to the incoming correspondence.

Routine uses of records maintained in the system, including categories of users and the purpose of such uses:

Information in these records may be used to:

(1) Make disclosures to a congressional office from the records of an individual in response to an inquiry made at the request of the individual to whom the record pertains;

(2) Disclose information to the appropriate governmental agency charged with the responsibility of administering law or investigating or prosecuting violations of law or charged with enforcing or implementing a statute, rule, regulation, order, or license;

(3) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(4) Disclose relevant information to the Department of Justice, private counsel, or an insurance carrier for the purpose of defending an action or seeking legal advice, to assure that the agency and its employees receive appropriate representation in legal proceedings;

(5) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in electronic media and in paper files.

Retrievability:

Records are maintained by name of individual; assignment control number.

Safeguards:

Access to paper records is limited to authorized personnel with a direct need to know. Some paper records are maintained in locked file cabinets in a secured office with access limited to those personnel whose official duties require access. Access to computerized records is limited, through the use of a password, to those whose official duties require access.

Retention and disposal:

Computerized records relating to non-congressional correspondence are retained for two (2) years after the Director's term. Computerized records relating to congressional correspondence are kept permanently. Paper records are retained for two (2) years after the Director's or member of Congress' term, then transferred directly to the National Archives.

System manager(s) and address:

Managing Director, External Affairs, Office of Thrift Supervision, 1700 G Street, NW., Washington, DC 20552.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Records access procedure:

See “Notification procedure” above.

Contesting record procedures:

See “Notification procedure” above.

Record source categories:

Congressional letters and responses from a Member of Congress and/or a constituent.

Exemptions claimed for the system:

None.

TREASURY/OTS .003

System name:

Consumer Complaint System.

System location:

Office of Thrift Supervision, 1700 G Street, NW., Washington, DC 20552. See Appendix A for appropriate local addresses of OTS Regional Offices.

Categories of individuals covered by the system:

Persons who submit inquiries or complaints concerning Federally insured depository institutions, service corporations, and subsidiaries.

Categories of records in the system:

Consumer's name, savings association's docket number, case number as designated by a Consumer Complaint Case number. Within these categories of records, the following information may be obtained: consumer's address, source of inquiry or complaint, nature of the inquiry or complaint, nature of the inquiry or complaint designated by instrument and complaint code, information on the investigation and resolution of inquiries and complaints.

Authority for maintenance of the system:

15 U.S.C. 57a(f), 5 U.S.C. 301.

Purpose(s):

OTS uses this system to track individual complaints and to provide additional information about each institution's compliance with regulatory requirements.

Routine uses of records maintained in the system, including categories of users and the purpose of such uses:

Information in these records may be used to:

(1) Disclose information to officials of regulated savings associations in connection with the investigation and resolution of complaints and inquiries;

(2) Make relevant information available to appropriate law enforcement agencies or authorities in connection with the investigation and/or prosecution of alleged civil, criminal, and administrative violations;

(3) Disclose information to a congressional office in response to an inquiry made at the request of the individual to whom the record pertains;

(4) Disclose information to other Federal and nonfederal governmental supervisory or regulatory authorities when the subject matter is within such other agency's jurisdiction;

(5) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(6) Disclose relevant information to the Department of Justice, private counsel, or an insurance carrier for the purpose of defending an action or seeking legal advice, to assure that the agency and its employees receive appropriate representation in legal proceedings;

(7) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in paper files and on electronic media.

Retrievability:

By name of individual, complaint case number, savings association name, docket number, region complaint code, instrument code, source code, or by some combination thereof.

Safeguards:

Paper records are maintained in locked file cabinets with access limited to those personnel whose official duties require access. Access to computerized records is limited, through use of the system passwords, to those whose official duties require access.

Retention and disposal:

Active paper files are maintained until the case is closed. Closed files are retained six (6) years then destroyed.

System manager(s) and address:

Director, Consumer and Community Affairs, Office of Thrift Supervision, 1700 G Street, NW., Washington, DC 20552.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Record access procedures:

See “Notification procedure” above.

Contesting record procedures:

See “Notification procedure” above.

Record source categories:

Inquirer or complainant (or his or her representative which may include a member of Congress or an attorney); savings association officials and employees; compliance/safety and soundness examiner(s); and other supervisory records.

Exemptions claimed for the system:

None.

TREASURY/OTS .004

System name:

Criminal Referral Database.

System location:

Office of Thrift Supervision, 1700 G Street, NW., Washington, DC 20552. See Appendix A for appropriate local addresses of OTS Regional Offices.

Categories of individuals covered by the system:

Individuals suspected of having committed crime(s) and individuals indicted or convicted of crime(s) against or involving savings associations prior to 1996.

Categories of records in the system:

Criminal referrals.

Authority for maintenance of the system:

12 U.S.C. 1464; 44 U.S.C. 3101.

Purpose(s):

This system lists matters referred to the Department of Justice for possible criminal proceedings.

Routine uses of records maintained in the system, including categories of users and the purpose of such uses:

Information in these records may be used to:

(1) Disclose information to the appropriate governmental agency charged with the responsibility of administering law or investigating or prosecuting violations of law or charged with enforcing or implementing a statute, rule, regulation, order or license;

(2) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in paper files and on electronic media.

Retrievability:

Records are filed by name of individual, savings institution or referral control number.

Safeguards:

Paper records are maintained in locked file cabinets. Access is limited to personnel whose official duties require such access and who have a need to know the information in a record for a job-related purpose.

Retention and disposal:

Records are maintained in paper form as long as needed for the purpose for which the information was collected. Records will then be disposed of in accordance with applicable law.

System manager(s) and address:

Deputy Chief Counsel, Enforcement, Office of Thrift Supervision, 1700 G Street, NW., Washington, DC 20552.

Notification procedure:

This system is exempt from notification and record-access requirements and requirements that an individual be permitted to contest its contents under 5 U.S.C. 552a(j)(2) and (k)(2) as relating to investigatory material compiled for law enforcement purposes.

Records access procedure:

See “Notification procedure” above.

Contesting record procedures:

See “Notification procedure” above.

Record source categories:

Criminal Referral forms compiled for law enforcement purposes.

Exemptions claimed for the system:

This system is exempt from 5 U.S.C. 552a(c)(3), (c)(4), (d)(1), (d)(2), (d)(3), (d)(4), (e)(1), (e)(2), (e)(3), (e)(4)(G), (e)(4)(H), (e)(4)(I), (e)(5), (e)(8), (f) and (g) of the Privacy Act pursuant to 5 U.S.C. 552a(j)(2) and (k)(2). See 31 CFR 1.36.

TREASURY/OTS .005

System name:

Employee Counseling Services.

System location:

Office of Thrift Supervision, 1700 G Street, NW., Washington, DC 20552. See Appendix A for appropriate local addresses of OTS Regional Offices.

Categories of individuals covered by the system:

Employees who seek counseling services.

Categories of records in the system:

Counseling records.

Authority for maintenance of the system:

5 U.S.C. 301, 44 U.S.C. 3101.

Purpose(s):

To provide a history and record of the employee counseling session(s) and to assist the counselor in identifying and resolving employee problem(s).

Routine uses of records maintained in the system, including categories of users and the purpose of such uses:

(1) This system will have minimal effect on individual privacy because access is limited to the employee counseling program counselor. Under special and emergency circumstances records may be released to medical personnel, research personnel, and as a result of a court order.

(2) Information in these records may be used to disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in paper files.

Retrievability:

Records are retrieved by a number assigned to employee.

Safeguards:

Records are maintained in locked file cabinet. Access is limited to the employee counselor.

Retention and disposal:

Records are retained and disposed of in accordance with the appropriate National Archives and Records Administration General Records Schedules.

System manager(s) and address:

EAP Counselor, 1849 C Street, NW., Room 2453, Washington, DC 20240.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Record access procedures:

See “Notification procedure” above.

Contesting record procedures:

See “Notification procedure” above.

Record source categories:

Employees and counselors.

Exemptions claimed for the system:

None.

TREASURY/OTS .006

System name:

Employee Locator File.

System location:

Office of Thrift Supervision, 1700 G Street, NW., Washington, DC 20552. See Appendix A for appropriate local addresses of OTS Regional Offices.

Categories of individuals covered by the system:

All current employees of the OTS and persons whose employment have been terminated within the last six months.

Categories of records in the system:

Employee's name, present address, telephone number, and the name, address, and telephone number of another person to notify in case of emergency.

Authority for maintenance of the system:

5 U.S.C. 301, 44 U.S.C. 3101.

Purpose(s):

This system provides current information on employee's address and emergency contact person.

Routine uses of records maintained in the system, including categories of users and the purpose of such uses:

Information in these records may be used to:

(1) Disclose information to a congressional office in response to an inquiry made at the request of the individual to whom the record pertains;

(2) Provide information to medical personnel in case of an emergency;

(3) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(4) Disclose relevant information to the Department of Justice, private counsel, or an insurance carrier for the purpose of defending an action or seeking legal advice, to assure that the agency and its employees receive appropriate representation in legal proceedings;

(5) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained on electronic media.

Retrievability:

Records are filed by name of individual.

Safeguards:

System access is limited to those personnel whose official duties require such access and who have a need to know information in a record for a particular job-related purpose. Access to computerized records is limited, through use of a password, to those whose official duties require access.

Retention and disposal:

Records are maintained until termination of employee's employment with OTS. After termination, records are retained for six months then destroyed.

System manager(s) and address:

Assistant Managing Director, HR Programs and Services, Office of Thrift Supervision, 1700 G Street, NW., Washington, DC 20552.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Record access procedures:

See “Notification procedure” above.

Contesting record procedures:

See “Notification procedure” above.

Record source categories:

The individual whose record is being maintained.

Exemptions claimed for the system:

None.

TREASURY/OTS .008

System name:

Employee Training Database.

System location:

Office of Thrift Supervision, 1700 G Street, NW., Washington, DC 20552.

Categories of individuals covered by the system:

All employees of the Office of Thrift Supervision.

Categories of records in the system:

Individual employee records are maintained by name, course taken, employee identification number, social security number, position, division, and manager name.

Authority for maintenance of the system:

5 U.S.C. 301 and 44 U.S.C. 3101.

Purpose(s):

To maintain necessary information on training taken by employees through internal and external sources.

Routine uses of records maintained in the system, including categories of users and the purpose of such uses:

Information in these records may be used to:

(1) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(2) Disclose relevant information to the Department of Justice, private counsel, or an insurance carrier for the purpose of defending an action or seeking legal advice, to assure that the agency and its employees receive appropriate representation in legal proceedings;

(3) Disclose to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained on electronic media.

Retrievability:

Records are filed by individual name, course completed, employee identification number, job code, and office code.

Safeguards:

Access to computerized records is limited, through use of a password, to those persons whose official duties require access.

Retention and disposal:

Records are retained and disposed of in accordance with National Archives and Records Administration General Records Schedules.

System manager(s) and address:

Director, Professional Development, Office of Thrift Supervision, 1700 G Street, NW., Washington, DC 20552.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Record access procedures:

See “Notification procedure” above.

Contesting record procedures:

See “Notification procedure” above.

Record source categories:

Personnel records and individual development plans completed by employee and supervisor.

Exemptions claimed for the system:

None.

TREASURY/OTS .011

System name:

Positions/Budget.

System location:

Office of Thrift Supervision, 1700 G Street, NW., Washington, DC 20552. See Appendix A for appropriate local addresses of OTS Regional Offices.

Categories of individuals covered by the system:

All current employees of the Office of Thrift Supervision.

Categories of records in the system:

Individual employee records are kept by office and agency as follows: Name, title, entered on duty date, service computation date, occupation series, social security number, grade, current salary, location of employee, date of last promotion, and eligibility for promotion. Records are kept for each office (and, where appropriate, for the agency) on number of vacancies, authorized position ceilings, and number of employees.

Authority for maintenance of the system:

5 U.S.C. 301, 44 U.S.C. 3101.

Purpose(s):

The system allows the OTS Budget Division the ability to track positions by Office to assure that assigned Full-Time Equivalent ceilings are not exceeded and remain within the limits set by the Director of OTS. The system also provides information to each office which can be used in developing their calendar year compensation budget.

Routine uses of records maintained in the system, including categories of users and the purpose of such uses:

Information in these records may be used to:

(1) Disclose information to the appropriate governmental agency charged with the responsibility of administering law or investigating or prosecuting violations of law or charged with enforcing or implementing a statute, rule, regulation, order, or license;

(2) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(3) Disclose relevant information to the Department of Justice, private counsel, or an insurance carrier for the purpose of defending an action or seeking legal advice, to assure that the agency and its employees receive appropriate representation in legal proceedings;

(4) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in paper files and on electronic media.

Retrievability:

Records are filed by name of individual.

Safeguards:

Paper records are maintained in file folders in secured areas. Access is limited to personnel whose official duties require such access and who have a need to know the information in a record for a particular job-related purpose. Access to computerized records is limited, through use of a password, to those whose official duties require access.

Retention and disposal:

Records are retained and disposed of in accordance with National Archives and Records Administration General Records Schedules.

System manager(s) and address:

Deputy Chief Finance Officer, Office of Thrift Supervision, 1700 G Street, NW., Washington, DC 20552.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Record access procedures:

See “Notification procedure” above.

Contesting record procedures:

See “Notification procedure” above.

Record source categories:

Personnel records.

Exemptions claimed for the system:

None.

TREASURY/OTS .012

System name:

Payroll/Personnel System & Payroll Records.

System location:

Office of Thrift Supervision, 1700 G Street, NW., Washington, DC 20552. See Appendix A for appropriate local addresses of OTS Regional Offices.

Categories of individuals covered by the system:

All current OTS employees and all former employees of OTS, within the past three years.

Categories of records in the system:

Information pertaining to (1) employee status, grade, salary, pay plan, hours worked, hours of leave taken and earned, hourly rate, gross pay, taxes, deductions, net pay, location, and payroll history; (2) employee's residence, office, social security number, and address; (3) Personnel actions (SF-50), State employees' withholding exemption certificates, Federal employees' withholding allowance certificates (W4), Bond Allotment File (SF-1192), Federal Employee's Group Life Insurance (SF-2810 and 2811), Savings Allotment-Financial Institutions, Address File (OTS Form 108), Union Dues Allotment, time and attendance reports, individual retirement records (SF-2806), Combined Federal Campaign allotment, direct deposit, health benefits, and thrift investment elections to either the Federal Thrift Savings Plan (TSP-1) or OTS's Financial Institutions Thrift Plan (FITP-107 and K 1-2).

Authority for maintenance of the system:

5 U.S.C. 301, 44 U.S.C. 3101.

Purpose(s):

Provides all the key personnel and payroll data for each employee which is required for a variety of payroll and personnel functions.

Routine uses of records maintained in the system, including categories of users and the purpose of such uses:

(1) In the event that records maintained in this system of records indicate a violation or potential violation of law, whether civil, criminal or regulatory in nature, and whether arising by general statute or particular program statute, or by regulation, rule or order pursuant thereto, the relevant records in the system of records may be referred, as a routine use, to the appropriate agency, whether Federal, State, local, or foreign, charged with the responsibility of implementing the statute, or rule or regulation or order issued pursuant thereto.

(2) A record from this system may be disclosed to other Federal agencies and the Office of Personnel Management if necessary for or regarding the payment of salaries and expenses incident to employment at the Office of Thrift Supervision or other Federal employment, or the vesting, computation, and payment of retirement or disability benefits.

(3) A record from this system may be disclosed if necessary to support the assessment, computation, and collection of Federal, State, and local taxes, in accordance with established procedures.

(4) Disclosure of information may be made to a congressional office in response to an inquiry made at the request of the individual to whom the record pertains.

(5) Records from this system may be disclosed to the Office of Child Support Enforcement, Administration for Children and Families, Department of Health and Human Services, for the purpose of locating individuals to establish paternity, establishing and modifying orders of child support, identifying sources of income, and for other support enforcement actions as required by the Personal Responsibility and Work Opportunity Reconciliation Act (Welfare Reform Law, Pub. L. 104-193).

(6) Information from these records may be disclosed in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding.

(7) Relevant information may be disclosed to the Department of Justice, private counsel, or an insurance carrier for the purpose of defending an action or seeking legal advice, to assure that the agency and its employees receive appropriate representation in legal proceedings.

(8) Information may be disclosed to respond to State and local authorities in connection with garnishment proceedings;

(9) Information may be disclosed to private creditors for the purpose of garnishment of wages of an employee if the debt has been reduced to a judgment.

(10) Information may be disclosed to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained on electronic media, microfiche, and in paper files.

Retrievability:

Records are filed by individual name, social security number and by office.

Safeguards:

Paper and microfiche records are maintained in secured offices and access is limited to personnel whose official duties require such access and who have a need to know the information in a record for a particular job-related purpose. Access to computerized records is limited, through the use of a password, to those whose official duties require access.

Retention and disposal:

Records are retained and disposed of in accordance with National Archives and Records Administration Approved Records Schedules.

System manager(s) and address:

Deputy Chief Finance Officer, Office of Thrift Supervision, 1700 G Street, NW., Washington, DC 20552.

Notification procedure:

Individuals wishing to be notified if they are named in this system or to gain access to records maintained in the system must submit a written request that (1) identifies the record system; (2) identifies the category and type of records sought; and (3) provides (i) a signature, (ii) an address, and (iii) one other item of identification such as a photocopy of a driver's license or other official document bearing the individual's signature. See 31 CFR part 1, subpart C, Appendix L. Address inquiries to FOIA Office, Office of Thrift Supervision, 1700 G Street, NW., Washington, DC 20552.

Record access procedures:

See “Notification procedure” above.

Contesting record procedures:

See “Notification procedure” above.

Record source categories:

Personnel and payroll records of current and former employees.

Exemptions claimed for the system:

None.

OTS APPENDIX A—Addresses of Office of Thrift Supervision Regional Offices

(1) Northeast Region: Harborside Financial Center Plaza Five, Suite 1600, Jersey City, NJ 07311.

(2) Southeast Region: 1475 Peachtree Street, NE., Atlanta, GA 30309.

(3) Central Region: 1 South Wacker Drive, Suite 2000, Chicago, IL 60606.

(4) Midwest Region: 225 E. John Carpenter Freeway, Suite 500, Irving, TX 75062-2326.

(5) West Region: Office of Thrift Supervision, Pacific Plaza, 2001 Junipero Serra Boulevard, Suite 650, Daly City, CA 94014-3897.

[FR Doc. E9-15230 Filed 6-26-09; 8:45 am]

BILLING CODE 6720-01-P